DEPARTMENT OF ENERGY

Federal Energy Regulatory Commission

Combined Notice of Filings

Take notice that the Commission has received the following Natural Gas Pipeline Rate and Refund Report filings:

Docket Numbers: RP20-1111-002.

Applicants: Transcontinental Gas Pipe Line Company.

Description: Compliance filing GT&C Section 49—Bid Evaluation—Compliance Filing to be effective 1/2/2021.

Filed Date: 12/2/20.

Accession Number: 20201202-5097.

Comments Due: 5 p.m. ET 12/14/20.

Docket Numbers: RP21-241-001.

Applicants: Southern Star Central Gas Pipeline, Inc.

Description: Compliance filing Annual Cash-Out Activity Report 2020—Correction to be effective N/A.

Filed Date: 12/2/20.

Accession Number: 20201202-5129.

Comments Due: 5 p.m. ET 12/14/20.

Docket Numbers: RP21-287-000.

Applicants: Southern Natural Gas Company, L.L.C.

Description: Compliance filing Abandon Tenneco X-Rate Schedules Compliance Filing to be effective 2/1/2021.

Filed Date: 12/2/20.

Accession Number: 20201202-5013.

Comments Due: 5 p.m. ET 12/14/20.

Docket Numbers: RP21-288-000.

Applicants: Rover Pipeline LLC.

Description: § 4(d) Rate Filing: Summary of Negotiated Rate Capacity Release Agreements on 12-2-20 to be effective 12/1/2020.

Filed Date: 12/2/20.

Accession Number: 20201202-5044.

Comments Due: 5 p.m. ET 12/14/20.

Docket Numbers: RP21-289-000.

Applicants: Northwest Pipeline LLC.

Description: § 4(d) Rate Filing: Non Conforming Service Agreements—XTO, Citadel, Cascade to be effective 1/2/2021.

Filed Date: 12/2/20.

Accession Number: 20201202-5073.

Comments Due: 5 p.m. ET 12/14/20.

Docket Numbers: RP21-290-000.

Applicants: Algonquin Gas Transmission, LLC.

Description: § 4(d) Rate Filing: Negotiated Rate—Yankee Gas 510802 eff 12-3-2020 to be effective 12/3/2020.

Filed Date: 12/2/20.

Accession Number: 20201202-5100.

Comments Due: 5 p.m. ET 12/14/20.

Docket Numbers: RP21-291-000.

Applicants: Iroquois Gas Transmission System, L.P.

Description: § 4(d) Rate Filing: 120220 Negotiated Rates—Castleton Commodities Merchant Trading R-4010-28 to be effective 12/3/2020.

Filed Date: 12/2/20.

Accession Number: 20201202-5111.

Comments Due: 5 p.m. ET 12/14/20.

Docket Numbers: RP21-292-000.

Applicants: Iroquois Gas Transmission System, L.P.

Description: § 4(d) Rate Filing: 120220 Negotiated Rates—Castleton Commodities Merchant Trading R-4010-27 to be effective 12/3/2020.

Filed Date: 12/2/20.

Accession Number: 20201202-5113.

Comments Due: 5 p.m. ET 12/14/20.

Docket Numbers: RP21-293-000.

Applicants: Rockies Express Pipeline LLC.

Description: § 4(d) Rate Filing: REX 2020-12-02 Negotiated Rate Agreements to be effective 12/2/2020.

Filed Date: 12/2/20.

Accession Number: 20201202-5176.

Comments Due: 5 p.m. ET 12/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2020.
Kimberly D. Bose,
Secretary.

[FR Doc. 2020-27033 Filed 12-8-20; 8:45 am]

BILLING CODE 6717-01-P